DEPARTMENT OF COMMERCE

National Oceanic and Atmospheric Administration

[I.D. 081502A]

Proposed Information Collection; Comment Request; Bluefin Tuna Dealer Reporting Package

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before October 21, 2002.

ADDRESSES: Direct all written comments to Madeleine Clayton, Departmental Paperwork Clearance Officer, Department of Commerce, Room 6608, 14th and Constitution Avenue, NW, Washington DC 20230 (or via the Internet at MClayton@doc.gov).

FOR FURTHER INFORMATION CONTACT: Requests for additional information or copies of the information collection instrument(s) and instructions should be directed to Brad McHale, Highly Migratory Species Management Division (F/SF1), Office of Sustainable Fisheries, NMFS, One Blackburn Dr., Gloucester, MA 01930; phone (978) 281-9260.

SUPPLEMENTARY INFORMATION:

I. Abstract

Under the provisions of the Magnuson-Stevens Fishery Conservation and Management Act (16 U.S.C. 1801 et seq.), NOAA is responsible for management of the Nation's marine fisheries. In addition, NOAA must comply with the United States' obligations under the Atlantic Tunas Convention Act (16 U.S.C. 1801 et seq.). NOAA Fisheries collect information via dealer reports to monitor the U.S. catch of tuna in relation to the quota, thereby ensuring that the United States complies with its international obligations to the International Commission for the Conservation of Atlantic Tunas (ICCAT). Provisions of the domestic regulations are also monitored through this collection of information, such as compliance with closures, fishing seasons, and subquotas by gear type and/or user group. This information provides the catch data necessary to assess the status of tuna resources. Assessments are conducted and presented to ICCAT annually. The data provide, in part, the basis for ICCAT management recommendations that become binding on member nations. In addition, dealer reports provide essential information for domestic management policy and rule-making. This collection also includes imports of Pacific bluefin tuna.

II. Method of Collection

Dealers who buy , sell, or receive for commercial purposes any large medium or giant size class Atlantic bluefin tuna are required to report all transactions to NOAA Fisheries via daily and biweekly reporting forms. These forms collect certain information for each Atlantic bluefin tuna that is sold at landing. Dealers who purchase any other types or sizes of Atlantic tunas, or Pacific coast dealers who export or import bluefin tuna, are required to submit biweekly reports only. Dealers must affix a tag to the tail of each bluefin tuna, record these tag numbers to the label of any packages of tuna parts to be transported for domestic use or export. Anglers who catch giant or large-medium size class Atlantic bluefin tuna must also submit daily reports.

III. Data

OMB Number: 0648-0239.

Form Number: NOAA 88-144.

Type of Review: Regular submission.

Affected Public: Business or other for-profit organizations(tuna dealers), individuals or households.

Estimated Number of Respondents: 541.

Estimated Time Per Response: 2 minutes for daily reports; 15.5 minutes for biweekly Atlantic bluefin tuna reports; 43 minutes for the Pacific biweekly report; and 1 minute for tagging and recording the tag number of bluefin tuna.

Estimated Total Annual Burden Hours: 1,468.

Estimated Total Annual Cost to Public: $1,096.

IV. Request for Comments

Comments are invited on: (a) whether the proposed collection of information is still necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 13, 2002.
Madeleine Clayton,
Departmental Paperwork Clearance Officer, Office of the Chief Information Officer.

[FR Doc. 02-21174 Filed 8-19-02; 8:45 am]

BILLING CODE 3510-22-S